DEPARTMENT OF HOMELAND SECURITY

U.S. Customs and Border Protection

19 CFR Part 101

[Docket No. USCBP-2017-0017]

Extension of Port Limits of Savannah, GA

Correction

In proposed rule document 2017-13983, beginning on page 30807, in the issue of Monday, July 3, 2017, make the following correction:

On page 30808, in the first column, the coordinates listed in line seven of “III. Proposed Port Limits of Savannah, Georgia”, “080°04.998′ W.” should read “080°54.998′ W.”

[FR Doc. C1-2017-13983 Filed 7-14-17; 8:45 am]

BILLING CODE 1301-00-D